DEPARTMENT OF TRANSPORTATION

Federal Aviation Administration

Noise Exposure Map Notice; Alexandria International Airport, Alexandria, LA

AGENCY: Federal Aviation Administration, DOT.

ACTION: Notice.

SUMMARY: The Federal Aviation Administration (FAA) announces its findings on the noise compatibility program submitted by England Economic and Industrial Developmental District under the provisions of 49 U.S.C. (the Aviation Safety and Noise Abatement Act, hereinafter referred to as “the Act”) and 14 CFR part 150. These findings are made in recognition of the description of Federal and nonfederal responsibilities in Senate Report No. 96-52 (1980). On January 26, 2006, the FAA determined that the noise exposure maps submitted by England Economic and Industrial Development District under part 150 were in compliance with applicable requirements. On August 14, 2007, the FAA approved the Alexandria International Airport noise compatibility program. All eight of the recommendations of the program were approved in full. The England Economic and Industrial Development District has also requested under FAR Part 150, section 150.35(f), that FAA determine that the revised noise exposure map for the year 2010 submitted with the noise compatibility program and showing future noise contours as a result of the implementation of the noise compatibility program is in compliance with applicable requirements of Federal Aviation Regulations (FAR) Part 150. The FAA announces its determination that the revised future noise exposure map for Alexandria International Airport, submitted with the noise compatibility program, is in compliance with applicable requirements of FAR Part 150 effective August 22, 2007. The documentation that constitutes the “noise exposure map” as defined in section 150.7 of Part 150 includes: Figure 2.1, Existing Land Use Map; Figure 3.2, Existing Airport Layout; Figure 4.1, Aviation Activity Forecast; Figure 4.2, Future Airport Layout; Figure 4.3, 2010 Future Condition North Flow Flight Tracks; Figure 4.4, 2010 Future Condition South Flow Flight Tacks; Table 3.2, Flight Track Utilization Rates; Table 4.1, 2010 Runway and Helipad Utilization Rates; Table 4.2, 2010 Flight Track Utilization Rates; Appendix A, Aviation Activity Forecast; Appendix B, Integrated Noise Model Inputs; Table 7.1, Alternative 1 Noise Exposure Estimates; Figure 7.1, RAD14 and RAD14X Departure Tracks; Figure 7.2, Alternative 1 Noise Contours; Table 7.2, Alternative 2 Noise Exposure Estimates; Figure 7.5, Runway 32 Arrival Tracks; Figure 7.6, Alternative 2 Noise Contours; Table 7.4, Summary of Noise Exposure Estimates; and Figure 7.9, 2010 Future Condition Noise Exposure Map with Program Implementation. The FAA has determined that this noise exposure map and accompanying documentation are in compliance with applicable requirements.

DATES: Effective Date: The effective date of the FAA's approval of the Alexandria International Airport noise compatibility program is August 14, 2007. The effective date of the FAA's determination on the revised noise exposure maps is August 22, 2007.

FOR FURTHER INFORMATION CONTACT: Mr. Tim Tandy, Federal Aviation Administration, ASW-640, Fort Worth, TX 76193-0640 at (817) 222-5644. Documents reflecting this FAA action may be reviewed at this same location.

SUPPLEMENTARY INFORMATION: This noise announces that the FAA has given its overall approval to the noise compatibility program for Alexandria International Airport, effective August 14, 2007, and that the revised noise exposure map for the year 2010 for this same airport is determined to be in compliance with applicable requirements of FAR Part 150.

A. Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with FAR Part 150 is a local program, not a Federal program. The FAA does not substitute its judgment for that of the airport proprietor with respect to which measures should be recommended for action. The FAA's approval or disapproval of FAR Part 150 program recommendations is measured according to the standards expressed in FAR Part 150 and the Act and is limited to the following determinations:

1. The noise compatibility program was developed in accordance with the provisions and procedures of FAR Part 150;

2. Program measures are reasonably consistent with achieving the goals of reducing existing non-compatible land uses around the airport and preventing the introduction of additional non-compatible land uses;

3. Program measures would not create an undue burden on interstate or foreign commerce, unjustly discriminate against types or classes of aeronautical uses, violate the terms of airport grant agreements, or intrude into areas preempted by the Federal Government; and

4. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA regional office in Fort Worth, Texas.

England Economic and Industrial Development District submitted to the FAA on January 31, 2007, the noise exposure maps, descriptions, and other documentation produced during the noise compatibility planning study conducted from 2001 through 2007. The Alexandria International Airport noise exposure maps were determined by FAA to be in compliance with applicable requirements on January 26, 2006. Notice of this determination was published in the Federal Register on April 13, 2007.

The Alexandria International Airport study contains a proposed noise compatibility program comprised of actions designed for phased implementation by airport management and adjacent jurisdictions from 2008 to the year 2015. It was requested that the FAA evaluate and approve this material as a noise compatibility program as described in section 47504 of the Act. The FAA began its review of the program on April 9, 2007, and was required by a provision of the Act to approve or disapprove the program within 180 days (other than the use of new or modified flight procedures for noise control). Failure to approve or disapprove such program within the 180-day period shall be deemed to be an approval of such program.

The submitted program contained eight proposed actions for noise mitigation on and off the airport. The FAA completed its review and determined that the procedural and substantive requirements of the Act and FAR Part 150 have been satisfied. The overall program, therefore, was approved by the FAA effective August 14, 2007.

Outright approval was granted for all eight of the specific program elements, which are summarized as follows: Program Recommendation (1), whereby military aircraft departing from Runway 14 would voluntarily use departure track RAD14X, instead of RAD14; Program Recommendation (2), whereby military aircraft arriving to Runway 32 would voluntarily use arrival track A32B, instead of VOR32; Program Recommendation (3), involving the opportunity within the Primary Area for fee simple acquisition and relocation assistance regarding eligible properties (eligible vacant residential properties are limited to those considered infill among established residential areas); Program Recommendation (4), involving the opportunity within the Primary Area for avigation easement acquisition regarding eligible properties whose owners decline to participate in the fee simple acquisition program; Program Recommendation (5), involving the opportunity within the Primary Area for acoustical treatment of eligible properties whose owners decline to participate in the fee simple acquisition and relocation program or the avigation easement acquisition program (acquisition of an avigation easement or similar interest is recommended by FAA as a condition of participation in this measure); Program Recommendation (6), involving the airport sponsor's management of acquired property and preparation of a redevelopment plan; Program Recommendation (7), involving the opportunity within the Secondary Area for acquisition of avigation easements for all eligible residential, infill vacant residential properties, and one church; and Program Recommendation (8), involving the opportunity within the Secondary Area for acoustical treatment of all single-family residential properties and one church.

These determinations are set forth in detail in a Record of Approval signed by the FAA Southwest Region, Airports Division Manager on August 14, 2007. The Record of Approval, as well as other evaluation materials and the documents comprising the submittal, are available for review at the FAA office listed above and at the administrative offices of the England Economic and Industrial Development District. The Record of Approval also will be available on-line at http://www.faa.gov/arp/environmental/14cfr150/index14.cfm.

The FAA also has completed its review of the revised noise exposure maps and related descriptions submitted by England Economic and Industrial Development District. The specific map under consideration is Figure 7.9 in the submission. The FAA has determined that this map for Alexandria International Airport is in compliance with applicable requirements. This determination is effective on August 22, 2007. FAA's determination on an airport operator's noise exposure maps is limited to a finding that the maps were developed in accordance with the procedures contained in appendix A of FAR Part 150. Such determination does not constitute approval of the applicant's data, information or plans.

If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties should be covered by the provisions of section 47506 of the Act. These functions are inseparable from the ultimate land use control and planning responsibilities of local government. These local responsibilities are not changed in any way under FAR Part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under section 150.21 of FAR Part 150, that the statutorily required consultation has been accomplished.

Copies of the noise exposure maps and of the FAA's evaluation of the maps, and copies of the record of approval and other evaluation materials and documents which comprised the submittal to the FAA are available for examination at the following locations:

Federal Aviation Administration, 2601 Meacham Boulevard, Fort Worth, Texas; England Economic and Industrial Development District, 1611 Arnold Drive, Alexandria, Louisiana. Questions on either of these FAA determinations may be directed to the individual named above under the heading FOR FURTHER INFORAMTION CONTACT.

Issued in Fort Worth, Texas, August 22, 2007.
D. Cameron Bryan,
Acting Manager, Airports Division.

[FR Doc. 07-4245 Filed 8-29-07; 8:45 am]

BILLING CODE 4910-13-M